DEPARTMENT OF EDUCATION

[Docket No.: ED-2015-ICCD-0078]

Agency Information Collection Activities; Submission to the Office of Management and Budget for Review and Approval; Comment Request; Impact Evaluation of Data Driven Instruction Professional Development for Teachers

AGENCY: Institute of Education (IES), Department of Education (ED).

ACTION: Notice.

SUMMARY: In accordance with the Paperwork Reduction Act of 1995 (44 U.S.C. chapter 3501 et seq.), ED is proposing a new information collection.

DATES: Interested persons are invited to submit comments on or before October 13, 2015.

ADDRESSES: To access and review all the documents related to the information collection listed in this notice, please use http://wwww.regulations.gov by searching the Docket ID number ED-2015-ICCD-0078. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E115, Washington, DC 20202-4537.

FOR FURTHER INFORMATION CONTACT: For specific questions related to collection activities, please contact Erica Johnson, 202-219-1373.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Impact Evaluation of Data Driven Instruction Professional Development for Teachers.

OMB Control Number: 1850—NEW.

Type of Review: A new information collection.

Respondents/Affected Public: Individuals or Households, State, Local and Tribal Governments.

Total Estimated Number of Annual Responses: 343.

Total Estimated Number of Annual Burden Hours: 260.

Abstract: This OMB package requests clearance for data collection activities for a rigorous evaluation of data-driven instruction (DDI) in 104 schools from 12 school districts. Data-driven instruction involves the use of student assessment data to help teachers adapt their instruction and, ultimately, improve student achievement. The study's intervention plan will build school capacity for DDI by: (1) Helping schools set up structures and processes that enable teachers and other school staff to efficiently carry out data-driven instruction, and (2) training and coaching teachers in the skills needed to understand student data and implement improved instructional strategies to address student needs. We plan to collect student records and teacher-assignment data from participating districts and schools, and conduct a teacher survey, teacher logs, and a principal survey. The evaluation's main objectives are to understand how DDI is implemented and to rigorously estimate the impact of a comprehensive DDI program on student achievement and teacher and principal practices.

Dated: September 4, 2015.
Tomakie Washington,
Acting Director, Information Collection Clearance Division, Office of the Chief Privacy Officer, Office of Management.

[FR Doc. 2015-22813 Filed 9-9-15; 8:45 am]

BILLING CODE 4000-01-P